DEPARTMENT OF AGRICULTURE

Forest Service

Ketchikan Resource Advisory Committee

AGENCY: Forest Service, USDA.

ACTION: Notice of meeting.

SUMMARY: The Ketchikan Resource Advisory Committee (RAC) will meet in Ketchikan, Alaska. The RAC is authorized under the Secure Rural Schools and Community Self-Determination Act (the Act) (Pub. L. 110-343) and operates in compliance with the Federal Advisory Committee Act of 1972 (5 U.S.C. App. 2). The purpose of the RAC is to improve collaborative relationships and to provide advice and recommendations to the Forest Service concerning projects and funding consistent with Title II of the Act. The meeting is open to the public. Additional information concerning the RAC, including the agenda, can be found by visiting the RAC's Web site at: https://fsplaces.fs.fed.us/fsfiles/unit/wo/secure_rural_schools.nsf/RAC/Ketchikan?OpenDocument.

DATES: The meeting will be held September 24, 2014 at 5:00 p.m.

All RAC meetings are subject to cancellation. For updated status of the meeting prior to attendance, please contact the person listed under For Further Information Contact.

ADDRESSES: The meeting will be held at the Ketchikan Misty Fiords Ranger District, 3031 Tongass Avenue, Ketchikan, Alaska. Written comments may be submitted as described under Supplementary Information. All comments, including names and addresses when provided, are placed in the record and are available for public inspection and copying. The public may inspect comments received at Ketchikan Misty Fiords Ranger District. Please call ahead to facilitate entry into the building.

FOR FURTHER INFORMATION CONTACT: Diane L. Daniels, RAC Coordinator, by phone at 907-228-4105, or via email at ddaniels@fs.fed.us.

Individuals who use telecommunication devices for the deaf (TDD) may call the Federal Information Relay Service (FIRS) at 1-800-877-8339 between 8:00 a.m. and 8:00 p.m., Eastern Standard Time, Monday through Friday.

SUPPLEMENTARY INFORMATION: The purpose of the meeting is to:

(1) Review current projects; and

(2) Recommend future projects the committee members feel should be funded.

The agenda will include time for people to make oral statements of three minutes or less. Individuals wishing to make an oral statement should request in writing by September 19, 2014 to be scheduled on the agenda. Anyone who would like to bring related matters to the attention of the RAC may file written statements with the committee staff before or after the meeting. Written comments and time requests for oral comments must be sent to Diane L. Daniels, RAC Coordinator, Ketchikan Misty Fiords Ranger District, 3031 Tongass Avenue, Ketchikan, Alaska 99901, or by email at ddaniels@fs.fed.us, or via facsimile at 907-225-8738.

Additional RAC information, including the summary/minutes can be found at the following Web site: https://fsplaces.fs.fed.us/fsfiles/unit/wo/secure_rural_schools.nsf/RAC/Ketchikan?OpenDocument 21 days after the meeting.

Meeting Accommodations: If you are a person requiring reasonable accommodation, please make requests in advance for sign language interpreting, assistive listening devices or other reasonable accommodation for access to the facility or proceedings by contacting the person listed in the section titled For Further Information Contact. All reasonable accommodation requests are managed on a case by case basis.

Dated: August 29, 2014.
Jeffrey DeFreest,
District Ranger.

[FR Doc. 2014-21265 Filed 9-5-14; 8:45 am]

BILLING CODE 3411-15-M